NUCLEAR REGULATORY COMMISSION

[Docket No. 50-151; NRC-2013-0017]

Notice of License Termination for University of Illinois Advanced TRIGA Reactor, License No. R-115

The U.S. Nuclear Regulatory Commission (NRC) is noticing the termination of Facility Operating License No. R-115, for the University of Illinois Advanced TRIGA Reactor (ATR).

The NRC has terminated the license of the decommissioned ATR, at the Nuclear Research Laboratory (NRL) on the campus of the University of Illinois (U of IL) in Urbana, Illinois, and has released the site for unrestricted use. The licensee requested termination of the license in a letter to the NRC dated October 9, 2012 (ADAMS Accession Number ML12345A245). The ATR provided training for Nuclear Engineering students and various services for researchers in other departments at the U of IL. The University ceased operation of the facility in 1998, and the reactor fuel was removed in 2004. In 2007, the NRC approved the NRL Decommissioning Plan (DP) which required complete removal of the reactor, systems, and demolition of the facility.

The NRL underwent decommissioning activities from October 2011 through May 2012. In July 2012, the licensee conducted a Final Status Survey (FSS) in the soils of the building footprint per the NRC reviewed FSS Plan. The Class 1 survey unit consisted of the exposed soils in the building footprint and the Class 2 survey unit was the immediate area surrounding the excavation area.

The U of IL submitted the FSS report with the request for license termination for the ATR on October 9, 2012 (ADAMS Accession No. ML12345A245). The NRC reviewed the FSS report and determined that the survey data was in accordance with the Decommissioning Plan and the FSS Plan. The report documented that compliance with the criteria in the NRC-approved decommissioning plan for both reactors had been demonstrated.

Additionally, a confirmatory survey including soil samples and a gamma walkover survey was completed by the NRC Region III staff. Their conclusions, as noted in the NRC's Inspection Report 05000151/12005 (ADAMS Accession No. ML12307A330), were that “the results of the confirmatory surveys were consistent with the licensee's final status survey results and below the required cleanup levels, or DCGLs,” and “the licensee adequately classified the survey units and applied the correct DCGLs in accordance with the FSSP.”

Pursuant to 10 CFR 50.82(b)(6), the NRC staff has concluded that ATR at the NRL has been decommissioned in accordance with the approved decommissioning plans and that the terminal radiation surveys and associated documentation demonstrate that the facilities and site are suitable for release in accordance with the criteria for decommissioning in 10 CFR part 20, subpart E. Further, on the basis of the decommissioning activities carried out by the U of IL, the NRC's review of the licensee's final status survey report, the results of the NRC's inspections conducted at the NRL, and the results of confirmatory surveys, the NRC has concluded that the decommissioning process is complete and the facilities and sites may be released for unrestricted use. Therefore, Facility Operating License No. R-115 is terminated.

The above referenced documents may be examined, and/or copied for a fee, at the NRC's Public Document Room (PDR) at One White Flint North, 11555 Rockville Pike (first floor), Rockville, Maryland. Publicly available records will be accessible electronically from the Agencywide Documents Access and Management System (ADAMS) Public Reading Room on the Internet at the NRC's Web site, http://www.nrc.gov/reading-rm/adams.html. Persons who do not have access to ADAMS or who have problems in accessing the documents in ADAMS should call the NRC PDR reference staff at 1-800-397-4209 or 301-415-4737 or email pdr@nrc.gov.

Dated at Rockville, Maryland, this 17th day of January 2013.
For the Nuclear Regulatory Commission.
Andrew Persinko,
Deputy Director, Decommissioning and Uranium Recovery Licensing Directorate, Division of Waste Management and Environmental Protection, Office of Federal and State Materials and Environmental Management Programs.

[FR Doc. 2013-01673 Filed 1-25-13; 8:45 am]

BILLING CODE 7590-01-P